DEPARTMENT OF THE INTERIOR

U.S. Geological Survey

National Earthquake Prediction Evaluation Council

AGENCY: U.S. Geological Survey, Interior.

ACTION: Notice of meeting.

SUMMARY: Pursuant to Public Law 106-503, the National Earthquake Prediction Evaluation Council (NEPEC) will hold its next meeting at the Southern Methodist University in Dallas, Texas. The Committee is comprised of members from academia, industry, and State government. The Committee shall advise the Director of the U.S. Geological Survey (USGS) on matters relating to the USGS's participation in the National Earthquake Hazards Reduction Program.

At the meeting, the Council will receive briefings and updates on: The USGS's strategic plan for operational earthquake forecasting and outcomes of a user-needs workshop on that subject held in March 2015; on USGS work to calculate the probability of future earthquakes in areas of the U.S. subject to induced seismicity; on the estimation of aftershock probabilities and on new modeled estimates of earthquake likelihood along the Wasatch fault zone by a technical working group; and on development of a plan for rapid communication of earthquake information in the Cascadia region. The NEPEC will review USGS procedures for calculating and communicating aftershock probabilities following large earthquakes in areas outside of California and the application of these procedures following the M7.8 Gorkha, Nepal earthquake of April 2015. The council will also finalize a statement for public release summarizing the proper procedures for posing and testing earthquake predictions and forecasts.

Meetings of the National Earthquake Prediction Evaluation Council are open to the public. A draft meeting agenda is available upon request from the Executive Secretary on request (contact information below). In order to ensure sufficient seating and hand-outs, it is requested that visitors pre-register by September 13. Members of the public wishing to make a statement to the Council should provide notice of that intention by August 26 so that time may be allotted in the agenda. A meeting summary will be posted by September 30 to the committee Web site: http://earthquake.usgs.gov/aboutus/nepec/.

DATES: September 2, 2015, commencing at 2:00 p.m. in Room 190 in the Crow Building on the SMU campus and adjourning at 6:00 p.m. September 3, 2015, commencing at 9:00 a.m. in Room 220 (Earnst & Young Gallery) in the Fincher Building on campus and adjourning at 5:00 p.m.

Contact: Dr. Michael Blanpied, U.S. Geological Survey, MS 905, 12201 Sunrise Valley Drive, Reston, Virginia 20192, (703) 648-6696, mblanpied@usgs.gov.

Michael L. Blanpied,
Associate Coordinator, USGS Earthquake Hazards Program.

[FR Doc. 2015-17641 Filed 7-17-15; 8:45 am]

BILLING CODE P